NUCLEAR REGULATORY COMMISSION

[Docket Nos. STN 50-528, STN 50-529, STN 50-530]

Arizona Public Service Company, et al.: Palo Verde Nuclear Generating Station, Units 1, 2 and 3; Environmental Assessment and Finding of No Significant Impact

The U.S. Nuclear Regulatory Commission (NRC) is considering issuance of an amendment to Title 10 of the Code of Federal Regulations (10 CFR) part 50, for Facility Operating License Nos. NPF-41, NPF-51, NPF-74, issued to Arizona Public Service Company (the licensee), for operation of the Palo Verde Nuclear Generating Station (PVNGS), Units 1, 2, and 3, located in Maricopa County, Arizona. Therefore, as required by 10 CFR 51.21, the NRC is issuing this environmental assessment and finding of no significant impact.

Environmental Assessment

Identification of the Proposed Action

The proposed action would extend the expiration date of the operating license from December 31, 2024, to June 1, 2025, for Unit 1; from December 9, 2025, to April 24, 2026, for Unit 2; and from March 25, 2027, to November 25, 2027, for Unit 3.

The proposed action is in accordance with the licensee's application dated August 28, 2002.

The Need for the Proposed Action

The proposed action would allow the licensee to operate PVNGS, Units 1, 2, and 3, until June 1, 2025, April 24, 2026, and November 25, 2027, respectively. This would allow the licensee to recapture approximately six months of additional plant operation for each unit.

Environmental Impacts of the Proposed Action

The NRC has completed its evaluation of the proposed action and concludes that there are no significant environmental considerations involved with the proposed action. The extension of the operating licenses does not affect the design or operation of the plants, does not involve any modifications to the plants or any increase in the licensed power for the plants, and will not create any new or unreviewed environmental impacts that were not considered in the Final Environmental Statement (FES) related to the operation of PVNGS, Units 1, 2, and 3, NUREG-0841, dated February 1982. The evaluations presented in the FES were the environmental impacts of generating power at PVNGS and the basis for granting a 40-year operating license for PVNGS. The environmental impacts of the proposed action are based on the evaluations in the FES. The FES also considered the environmental impacts of operating Units 1, 2, and 3.

The FES which in general, assesses various impacts associated with operation of the facility in terms of annual impacts and balances these against the anticipated annual energy production benefits.

The offsite exposure from releases during postulated accidents has been previously evaluated in the Updated Final Safety Analysis Report (UFSAR) for PVNGS. The results are acceptable when compared with the criteria defined in 10 CFR part 100, as documented in the Commission's Safety Evaluation Report, NUREG-0857, dated November 1981, and its 12 supplements.

This conservative design-basis evaluation is a function of four parameters: (1) The type of accident postulated, (2) the radioactivity calculated to be released during the accident, (3) the assumed meteorological conditions at the site, and (4) the population distribution versus distance from the plant. An environmental assessment of accidents is also provided in section 5.9.2 of the FES. The type of accidents and the calculated radioactivity released do not change with the proposed action. The site meteorology as defined in Chapter 2 of the UFSAR is essentially constant. The NRC staff has concluded that the population size and distribution will not change significantly.

The NRC staff has concluded that the impacts associated with the addition of approximately six to eight months to each unit are not significantly different from operating license duration assessed in the PVNGS FES. Therefore, the staff concluded that the FES sufficiently addresses the environmental impacts associated with a full 40-year operating period for each unit.

The annual occupational exposure of workers at the plant, station employees and contractors, is reported in the Annual Operating Report submitted by the licensee. The lowest exposure value is for a year without a refueling outage and the highest value is for a year with a refueling outage. In section 5.9.1.1.1 of the FES, the average occupational exposure for a pressurized water reactor was reported as 440 person-rems. Therefore, the expected annual occupational exposure for the proposed extended period of operation does not change previous conclusions presented in the FES on occupational exposure.

The offsite exposure from releases during routine operations has been previously evaluated in section 5.9.1 of the FES. During the low-power license, the plant was restricted to no more than 5 percent of rated power and the generation of radioactivity at the plants was significantly smaller than would have occurred if the plants were at full-power operation. Therefore, the addition of approximately six to eight months of operation per plant that the licensee has requested does not change previous conclusions presented in the FES on annual public doses.

The proposed action will not significantly increase the probability or consequences of accidents, no changes are being made in the types of effluents that may be released off site, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resource than those previously considered in the FES [or more recently, the Environmental Impact Statement] for the PVNGS, Units 1, 2, and 3.

Agencies and Persons Consulted

On July 3, 2003, the staff consulted with the Arizona State official, Mr. William Wright, of the Arizona Radiation Regulatory Agency, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated August 28, 2002. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

Dated at Rockville, Maryland, this 7th day of July 2003.
For the Nuclear Regulatory Commission.
Stephen Dembek,
Chief, Section 2, Project Directorate IV, Division of Licensing Project Management, Office of Nuclear Reactor Regulation.

[FR Doc. 03-17579 Filed 7-10-03; 8:45 am]

BILLING CODE 7590-01-P